DEPARTMENT OF DEFENSE

Department of the Air Force

Notice of Settlement Agreement Under the Comprehensive Environmental Response, Compensation and Liability Act

AGENCY: Department of the Air Force, Defense.

ACTION: Notice.

SUMMARY: Pursuant to Section 122(i) of the Comprehensive Environmental Response, Compensation and Liability Act (“CERCLA”) of 1980, as amended, 42 U.S.C. 9622(i), notice is hereby given that the Department of the Air Force and Raytheon Company (“Raytheon”) entered into a proposed Settlement Agreement and Administrative Order on Consent (“SA-AOC”) to resolve their respective claims for CERCLA response costs relating to environmental response actions at Air Force Plant 44 located in Tucson, Arizona, which is part of the Tucson International Airport Area Superfund Site. The SA-AOC resolves the Air Force's claims under CERCLA Sections 106 and 107, 42 U.S.C. 9606 and 9607, in connection with Plant 44. Under the SA-AOC, Raytheon will pay up to $300,000 per year and up to $20 million in total to reimburse the Air Force for its past and future costs. The SA-AOC also resolves Raytheon's claims against the United States for CERCLA response costs incurred by the company at Plant 44. Under the SA-AOC, the United States, on behalf of the Air Force, will reimburse Raytheon for future CERCLA response costs incurred by the company that exceed $300,000 per year or $20 million in total.

DATES: The Department of the Air Force will receive for a period of thirty (30) days from the date of this publication comments relating to the SA-AOC.

ADDRESSES: Comments should be addressed to AFLOA/JACE, Environmental Litigation Branch (ATTN: Mr. Douglas D. Sanders), and either e-mailed to AFLOAJACE.Workflow@pentagon.af.mil or mailed to 112 Luke Avenue, Suite 343, Bolling AFB, DC 20032 and should refer to the “Department of the Air Force and Raytheon Company Settlement Agreement and Administrative Order on Consent Re: Air Force Plant 44.” Commenters may request an opportunity for a public meeting in the affected area, in accordance with Section 7003(d) of RCRA, 42 U.S.C. 6973(d).

FOR FURTHER INFORMATION CONTACT: Mr. Douglas D. Sanders either via e-mail at Douglas.Sanders@pentagon.af.mil, mail at 112 Luke Avenue, Suite 343, Bolling AFB, DC 20032, fax at (202) 767-1519, or phone at (202) 767-1577.

SUPPLEMENTARY INFORMATION: The SA-AOC may be examined at the Air Force Legal Operations Agency, Environmental Law & Litigation Division, 112 Luke Avenue, Suite 343 (Room 105), Bolling AFB, DC 20032. During the public comment period, the SA-AOC may also be examined on the following Air Force Web site: http://www.wpafb.af.mil/asc/environmental/index.asp. A copy of the SA-AOC may also be obtained by contacting Mr. Douglas D. Sanders at the contact information above.

Bao-Anh Trinh,
Air Force Federal Register Liaison Officer.

[FR Doc. E8-3193 Filed 2-20-08; 8:45 am]

BILLING CODE 5001-05-P